DEPARTMENT OF THE INTERIOR

National Park Service

Notice of Intent To Prepare a Draft Environmental Impact Statement (EIS) for the Special Resource Study (SRS) for Sites Related to the Civil War Battle of Franklin, Near Franklin, Tennessee

SUMMARY: Pursuant to section 102(2)(C) of the National Environmental Policy Act of 1969 and National Park Service policy in Director's Order 2 (Park Planning) and Director's Order 12 (Conservation Planning, Environmental Impact Analysis, and Decision-making) the National Park Service (NPS) will prepare an EIS for the SRS for sites related to the Civil War Battle of Franklin (BoF) located in Franklin, Tennessee. The statement will assess potential environmental impacts associated with various types and levels of visitor use and resources management for sites related to the BoF.

The authority for publishing this notice is contained in 40 CFR 1506.6 which prescribes the regulations for implementing the provisions of the National Environmental Policy Act. The process by which the Secretary of the Interior will conduct SRSs is contained in 16 U.S.C. 1a-5.

New areas are typically added to the National Park System by an Act of Congress. The National Park Service is often tasked by Congress to evaluate potential new areas for compliance with the established criteria for designation. The NPS documents its findings in a SRS Report. On December 1, 2005, Congress passed the Franklin National Battlefield Study Act (Pub. L. 109-120) directing the Secretary of the Interior to conduct a SRS for certain sites in Tennessee including the cities of Brentwood, Franklin, Triune, Thompson Station, and Spring Hill, Tennessee.

The NPS is currently accepting comments from interested parties on issues, concerns, and suggestions pertinent to the BoF. Suggestions and ideas for managing the cultural and natural resources associated with the BoF are encouraged. Comments may be submitted in writing to the address listed at the end of this notice or through the NPS Planning, Environment, and Public Comment (PEPC) Web site at http://parkplanning.nps.gov. The NPS will publish periodic newsletters on the PEPC Web site to present scoping issues and preliminary management concepts to the public as they are developed. Public meetings to present management concepts will be conducted in the local area. Specific locations, dates, and times will be announced in local media and on the PEPC Web site. If you wish to comment, you may submit your comments by any one of several methods. You may mail comments to: Tim Bemisderfer, Battle of Franklin SRS, NPS Southeast Regional Office, Planning and Compliance Division, 100 Alabama Street, 6th Floor 1924 Building, Atlanta, Georgia 30303. You may also comment via the Internet to http://parkplanning.nps.gov/sero. Please submit Internet comments as a plain text file, avoiding the use of special characters and any form of encryption. Please also include your name and return address in your Internet message. If you do not receive a confirmation from the system that we have received your Internet message, contact us directly at 404-562-3124, extension 693.

Before including your address, phone number, e-mail address, or other personal identifying information in your comment, you should be aware that your entire comment—including your personal identifying information—may be made publicly available at any time. While you can ask us in your comment to withhold your personal identifying information from public review, we cannot guarantee that we will be able to do so. We will always make submissions from organizations or businesses, and from individuals identifying themselves as representatives of or officials of organizations or businesses, available for public inspection in their entirety.

DATES: Locations, dates, and times of public meetings will be published in local newspapers and may also be obtained by contracting the NPS Southeast Regional Office, Planning and Compliance Division. This information will also be published on the PEPC Web site.

ADDRESSES: Tim Bemisderfer, Battle of Franklin SRS, NPS Southeast Regional Office, Planning and Compliance Division, 100 Alabama Street, 6th Floor 1924 Building, Atlanta, Georgia 30303. Telephone: 404-562-3124 extension 693.

FOR FURTHER INFORMATION CONTACT: Tim Bemisderfer, Battle of Franklin SRS, NPS Southeast Regional Office, Planning and Compliance Division, 100 Alabama Street, 6th Floor 1924 Building, Atlanta, Georgia 30303. Telephone: 404-562-3124 extension 693.

SUPPLEMENTARY INFORMATION: The Draft and Final SRS and EIS will be made available to all known interested parties and appropriate agencies. Full public participation by Federal, State, and local agencies as well as other concerned organizations and private citizens is invited throughout the preparation process of this document.

The responsible official for this EIS is the Regional Director for the Southeast Region, Patricia A. Hooks.

Dated: May 29, 2007.
Patricia A. Hooks,
Regional Director, Southeast Region.

[FR Doc. 07-3205 Filed 6-29-07; 8:45 am]

BILLING CODE 4312-52-M